DEPARTMENT OF THE INTERIOR

Office of the Secretary

[XXXD5198NI DS61100000 DNINR0000.000000 DX61104]

Exxon Valdez Oil Spill Public Advisory Committee; Public Meeting

AGENCY: Office of the Secretary, Interior.

ACTION: Notice.

SUMMARY: The Department of the Interior, Office of the Secretary is announcing a public meeting of the Exxon Valdez Oil Spill (EVOS) Trustee Council's Public Advisory Committee.

DATES: September 28, 2017, at 10 a.m.

ADDRESSES: Glenn Olds Hall Conference Room, 4210 University Drive, Anchorage, Alaska.

FOR FURTHER INFORMATION CONTACT: Dr. Philip Johnson, Department of the Interior, Office of Environmental Policy and Compliance, 1689 “C” Street, Suite 119, Anchorage, Alaska, (907) 271-5011.

SUPPLEMENTARY INFORMATION: The EVOS Public Advisory Committee was created by Paragraph V.A.4 of the Memorandum of Agreement and Consent Decree entered into by the United States of America and the State of Alaska on August 27, 1991, and approved by the United States District Court for the District of Alaska in settlement of United States of America v. State of Alaska, Civil Action No. A91-081 CV. The EVOS Public Advisory Committee meeting agenda will include review of the FY18 Work Plan of EVOS Trustee Council Restoration, Research, and Monitoring Projects; FY18 EVOS Trustee Council Annual Budget; and Habitat matters, as applicable. An opportunity for public comments will be provided. The final agenda and materials for the meeting will be posted on the EVOS Trustee Council Web site at www.evostc.state.ak.us. All EVOS Public Advisory Committee meetings are open to the public.

Public disclosure of comments: Before including your address, phone number, email address, or other personal identifying information in your comment, please be aware that your entire comment—including your personal identifying information—may be made publicly available at any time. While you may ask us in your comment to withhold your personal identifying information from public review, we cannot guarantee that we will be able to do so.

Authority: 5 U.S.C. Appendix 2.

Michaela Noble,
Director, Office of Environmental Policy and Compliance.

[FR Doc. 2017-18526 Filed 8-31-17; 8:45 am]

BILLING CODE 4334-63-P